DEPARTMENT OF TRANSPORTATION

Federal Aviation Administration

Aviation Rulemaking Advisory Committee; General Aviation Certification and Operations Issues; Meeting

AGENCY: Federal Aviation Administration (FAA), DOT.

ACTION: Notice of public meeting.

SUMMARY: This notice announces a public meeting of the FAA's Aviation Rulemaking Advisory Committee to discuss general aviation certification and operations issues. Specifically, the committee will review its current tasks.

DATE: The meeting will be held on May 7, 2002, at 10 a.m.

ADDRESSES: The meeting will be held at the Helicopter Association International, 1635 Prince Street, Alexandria, VA 22314.

FOR FURTHER INFORMATION CONTACT: Noreen Hannigan, Federal Aviation Administration, Office of Rulemaking (ARM-106), 800 Independence Avenue, SW., Washington, DC 20591, telephone (202) 267-7476; fax (202) 267-5075.

SUPPLEMENTARY INFORMATION: The Aviation Rulemaking Advisory Committee for General Aviation Certification and Operations Issues (GACO) currently has five tasks: (1) Update Certification Requirements (Propulsion/Jet); (2) Occupant Protection Standards; (3) Enhanced Stall Characteristics; (4) Miscellaneous Systems and Part 23; and (5) Dihedral Effect. These can be reviewed on the FAA's web site at http://www.faa.gov/avr/arm.

The agenda for the meeting will include:

(1) Review current tasks under General Aviation Certification and Operations Issues (GACO);

(2) Discuss where tasks fit into the FAA's overall Aircraft Certification Service rulemaking activities.

(3) Clarify the scope of the Turbofan/Jet Installations portion of the “Update Certification Requirements” task. This includes all configurations of jet airplanes less than 19,000 pounds, including recommendations for distinguishing different classes of jets. This also includes a thorough review of the Subpart B performance requirements.

(4) Possible approaches to those portions of the “Update Certification Requirements” task that are not limited to jets but would apply to all airplane configurations.

(5) Possible approaches to the portions of the “Occupant Protection” task that could be grouped with the “Update Certification Requirements” task for general safety in part 91 operations.

(6) Possible approaches to portions of the “Occupant Protection Standards” task that are necessary for part 121 operations.

(7) Review the current state of JAA harmonization activities pertaining to GACO's tasks.

This meeting is announced pursuant to section 10(a)(2) of the Federal Advisory Committee Act (Pub. L. 92-463; 5 U.S.C. App. II).

Attendance is open to the public but will be limited to the space available. The FAA will arrange teleconference capability for individuals wishing to participate by teleconference if the FAA receives notification no later than 3 business days before the meeting. Arrangements to participate by teleconference can be made by contacting the person listed under FOR FURTHER INFORMATION CONTACT. Callers outside the Washington metropolitan area will be responsible for paying long distance charges.

To present oral statements at the meeting, members of the public must make arrangements no later than 3 business days before the meeting. The public may present written statements to the committee at any time by providing 25 copies to the Assistant Executive Director, or by bringing the copies to the meeting.

Requests for sign or oral interpretation, or for a listening device, may be made by contacting the person listed under FOR FURTHER INFORMATION CONTACT at least 10 calendar days before the meeting.

Issued in Washington, DC, on April 8, 2002.
Anthony F. Fazio,
Executive Director, Aviation Rulemaking Advisory Committee.

[FR Doc. 02-9116 Filed 4-12-02; 8:45 am]

BILLING CODE 4910-13-P